DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission

TIME AND DATE: January 23, 2020, 10:00 a.m.

PLACE: Room 2C, 888 First Street NE, Washington, DC 20426.

STATUS: Open.

MATTERS TO BE CONSIDERED: Agenda.

*Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1063rd—Meeting
[Open Meeting; January 23, 2020; 10:00 a.m.]
Item No. | Docket No. | Company
ADMINISTRATIVE
A-1 | AD20-1-000 | Agency Administrative Matters
A-2 | AD20-2-000 | Customer Matters, Reliability, Security and Market Operations.
ELECTRIC
E-1 | OMITTED
E-2 | OMITTED
E-3 | OMITTED
E-4 | ER19-2722-000 | PJM Interconnection, L.L.C.
E-5 | EL19-47-000 | Independent Market Monitor for PJM Interconnection, L.L.C. v. PJM Interconnection, L.L.C.
| EL19-63-000 | Office of the People's Counsel for the District of Columbia, Delaware Division of the Public Advocate, Citizens Utility Board, Indiana Office of Utility Consumer Counselor, Maryland Office of People's Counsel, Pennsylvania Office of Consumer Advocate, West Virginia Consumer Advocate Division, and PJM Industrial Customer Coalition v. PJM Interconnection, L.L.C.
E-6 | OMITTED
E-7 | OMITTED
E-8 | OMITTED
E-9 | OMITTED
E-10 | ER19-1938-000, ER19-1938-001 | Florida Power & Light Company.
E-11 | ER19-1940-001 | Gulf Power Company.
E-12 | ER19-1890-000 | MATL LLP.
E-13 | ER19-1943-000, ER19-1943-001 | NorthWestern Corporation.
E-14 | ER19-1946-000 | Dominion Energy South Carolina, Inc.
E-15 | ER19-1954-000 | Southwest Power Pool, Inc.
E-16 | ER19-1934-002 | Tucson Electric Power Company.
E-17 | ER19-1935-001 | UNS Electric, Inc.
E-18 | ER19-2276-000, ER19-2276-001, ER19-2276-002 | New York Independent System Operator, Inc.
E-19 | EL18-188-000 | NRG Curtailment Solutions, Inc. v. New York Independent System Operator, Inc.
E-20 | RR19-7-000 | North American Electric Reliability Corporation.
E-21 | RM19-10-000 | Transmission Planning Reliability Standard TPL-001-5.
E-22 | RM18-20-000 | Critical Infrastructure Protection Reliability Standard CIP-012-1—Cyber Security—Communications between Control Centers.
E-23 | RM05—5-025, RM05-5-026, RM05-5-027 | Standards for Business Practices and Communication Protocols for Public Utilities.
E-24 | RM19-16-000, RM19-17-000 | Electric Reliability Organization Proposal to Retire Requirements in Reliability Standards Under the NERC Standards Efficiency Review.
E-25 | ER18-2208-002 | New England Power Pool Participants Committee.
E-26 | EL18-196-001 | RTO Insider LLC v. New England Power Pool Participants Committee.
E-27 | ER09-1256-003, ER09-1256-005, ER12-2708-004, ER12-2708-005, ER12-2708-007 | Potomac-Appalachian Transmission Highline, LLC PJM Interconnection, L.L.C.
E-28 | ER15-1436-001 | Entergy Gulf States Louisiana, L.L.C., Entergy Arkansas, Inc., Entergy Louisiana, LLC, Entergy Mississippi, Inc., Entergy New Orleans, Inc., and Entergy Texas, Inc.
E-29 | ER02-2001-020 | Electric Quarterly Reports.
| ER10-1110-000 | Mint Energy, LLC.
| ER10-2291-001 | Westmoreland Partners.
| ER11-2039-001 | E-T Global Energy, LLC.
| ER11-3028-002 | BBPC, LLC.
| ER11-3879-001 | Amerigreen Energy, Inc.
| ER11-4447-000 | Mac Trading, Inc.
| ER12-1202-001 | Liberty Hill Power LLC.
| ER12-1170-003 | Imperial Valley Solar Company (IVSC) 1, LLC.
| ER15-455-000 | Lexington Power & Light, LLC.
| ER13-183-000 | Clear Choice Energy, LLC.
| ER14-663-001 | Energy Discounters, LLC.
| ER14-2421-000 | Infinite Energy Corporation.
| ER15-626-000 | North Energy Power, LLC.
E-30 | EL17-84-001 | PJM Interconnection, L.L.C.
E-31 | ER20-323-000 | Helix Ravenswood, LLC and Ravenswood Development, LLC.
E-32 | ER18-1743-002 | New York Independent System Operator, Inc.
E-33 | ER17-795-003 | ISO New England Inc.
E-34 | OMITTED |
E-35 | EL17-90-001 | Linden VFT, LLC v. Public Service Electric and Gas Company and PJM Interconnection, L.L.C.
E-36 | EL19-62-001 | City Utilities of Springfield, Missouri v. Southwest Power Pool, Inc.
E-37 | EL19-53-001 QF19-855-002 | Golden Valley Electric Association, Inc. Eco Green Generation LLC.
E-38 | ER20-45-000 | PJM Interconnection, L.L.C.
GAS
G-1 | OR19-28-000 | Medallion Delaware Express, LLC and Medallion Pipeline Company, LLC.
G-2 | OR19-34-000 | Medallion Midland Gathering, LLC and Medallion Pipeline Company, LLC.
HYDRO
H-1 | P-2337-079 | PacifiCorp.
H-2 | P-1494-450 | Grand River Dam Authority.
CERTIFICATES
C-1 | CP18-137-000 | Columbia Gas Transmission, LLC.
C-2 | CP16-454-001 | Rio Grande LNG, LLC.
| CP16-455-001 | Rio Bravo Pipeline Company, LLC.
C-3 | RP20-41-000 | PennEast Pipeline Company, LLC.

Issued: January 16, 2020.
Nathaniel J. Davis Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2020-01126 Filed 1-17-20; 4:15 pm]

BILLING CODE 6717-01-P